DEPARTMENT OF HOUSING AND URBAN DEVELOPMENT

[Docket No. FR-5376-N-65]

Insured Healthcare Facilities 232 Loan Application

AGENCY: Office of the Chief Information Officer, HUD.

ACTION: Notice.

SUMMARY: The proposed information collection requirement described below has been submitted to the Office of Management and Budget (OMB) for review, as required by the Paperwork Reduction Act. The Department is soliciting public comments on the subject proposal.

Information provided is the application for HUD/FHA multifamily mortgage insurance. The information from sponsors and general contractors, and submitted by a HUD-approved mortgagee, is needed to determine project feasibility, mortgagor/contractor acceptability, and construction cost. Documentation from operators/managers of health care facilities is also required as part of the application for firm commitment for mortgage insurance. Other information requested enables HUD to determine the suitability of improvements; extent, quality, and duration of earning capacity; the value of real estate proposed or existing as security for a long-term mortgage; and several other factors which have a bearing on the economic soundness of the subject property.

DATES: Comments Due Date: August 18, 2010.

ADDRESSES: Interested persons are invited to submit comments regarding this proposal. Comments should refer to the proposal by name and/or OMB approval Number (2502-New) and should be sent to: HUD Desk Officer, Office of Management and Budget, New Executive Office Building, Washington, DC 20503; fax: 202-395-5806.

FOR FURTHER INFORMATION CONTACT: Leroy McKinney Jr., Reports Management Officer, QDAM, Department of Housing and Urban Development, 451 Seventh Street, SW., Washington, DC 20410; e-mail Leroy McKinney Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Insured Healthcare Facilities 232 Loan Application.

OMB Approval Number: 2502-New.

Form Numbers: HUD-92013-NHICF, HUD 92264-HCF, HUD-92264-T.

HUD forms can be obtained at: http://portal.hud.gov/portal/page/portal/HUD/program_offices/administration/hudclips/forms.

Description of the Need for the Information and its Proposed Use: Information provided is the application for HUD/FHA multifamily mortgage insurance. The information from sponsors and general contractors, and submitted by a HUD-approved mortgagee, is needed to determine project feasibility, mortgagor/contractor acceptability, and construction cost. Documentation from operators/managers of health care facilities is also required as part of the application for firm commitment for mortgage insurance. Other information requested enables HUD to determine the suitability of improvements; extent, quality, and duration of earning capacity; the value of real estate proposed or existing as security for a long-term mortgage; and several other factors which have a bearing on the economic soundness of the subject property.

Frequency of Submission: On occasion, Annually, Other (describe) Required with each project application.

| Number of respondents | Annual responses | × | Hours per response | = | Burden hours
Reporting Burden | 610 | 1 |  | 87.557 |  | 53,410

Total Estimated Burden Hours: 53,410.

Status: New Collection.

Authority: Section 3507 of the Paperwork Reduction Act of 1995, 44 U.S.C. 35, as amended.

Dated: July 13, 2010.
Leroy McKinney, Jr.,
Departmental Reports Management Officer, Office of the Chief Information Officer.

[FR Doc. 2010-17574 Filed 7-16-10; 8:45 am]

BILLING CODE 4210-67-P